DEPARTMENT OF THE TREASURY

Internal Revenue Service

Privacy Act of 1974, as Amended; System of Records

AGENCY: Internal Revenue Service, Treasury.

ACTION: Notice of Proposed New Privacy Act System of Records.

SUMMARY: The Treasury Department, Internal Revenue Service, gives notice of a proposed new system of records entitled “Criminal Investigation Audit Trail Records System—Treasury/IRS 46.051,” which is subject to the Privacy Act of 1974, 5 U.S.C. 552a. This proposed system has been developed to enable the Criminal Investigation Division to analyze computer system usage and identify potential security violations. It is further proposed to have the system exempt from meeting certain requirements of the Privacy Act of 1974.

DATES: Comments must be received no later than May 22, 2000. This new system of records will be effective May 30, 2000, unless comments are received which result in a contrary determination.

ADDRESSES: Comments should be sent to the Office of Governmental Liaison and Disclosure, Internal Revenue Service, 1111 Constitution Avenue, NW, Washington, DC 20224. Comments will be made available for inspection and copying in the Freedom of Information Reading Room upon request.

FOR FURTHER INFORMATION CONTACT: Fu-An Chao, Chief, Systems Development and Support, Criminal Investigation, (202) 622-7803.

SUPPLEMENTARY INFORMATION: The Internal Revenue Service's Criminal Investigation Division seeks to establish and maintain the proposed new system of records as a more comprehensive means of performing its responsibilities.

Criminal Investigation carries out many law enforcement related functions. Among Criminal Investigation's principal responsibilities are investigating and referring for prosecution criminal cases, centering largely on violations of tax laws, including income tax evasion, refund fraud, and other crimes contributing to the federal tax gap. Criminal Investigation also investigates violations of certain money laundering laws.

Many of these law enforcement related functions have been automated and are available on Criminal Investigation computer systems. To ensure the integrity of the system data, audit records are maintained to identify all events that occur while users attempt to access or use the computer system or the applications. This system will identify the sequence of events that occurred while an individual is logged onto the system.

Due to the nature of information collected, the Criminal Investigation Audit Trail Records System will automatically identify law enforcement related information.

The Criminal Investigation Audit Trail Records System produces an output record that identifies user names, times logged into the system, and sequences of events which occurred, while logged into the system, or attempting to log onto the system, and investigatory files accessed. Once the output record is created, it is sent to the National Office for review. This enables the security staff to determine if any irregular activities or patterns are occurring. Individuals who are detected by the audit logs of irregular activities or patterns may be adversely affected up to and including prosecution for unauthorized access to government records.

The Internal Revenue Service is giving public notice of a proposed rule to exempt this system of records from certain provisions of 5 U.S.C. 552a pursuant to subsections (j)(2) and (k)(2). A proposed rule is being published separately in the Federal Register. The exemption is intended to comply with legal prohibitions against the disclosure of certain kinds of information and to protect certain information on individuals maintained in this system of records.

The new system of records report, as required by 5 U.S.C. 552a (r) of the Privacy Act, has been submitted to the Committee on Government Reform in the House of Representatives, the Committee on Governmental Affairs in the Senate, and the Office of Management and Budget, pursuant to Appendix I to OMB Circular A-130, “Federal Agency Responsibilities for Maintaining Records About Individuals,” dated February 8, 1996.

The proposed IRS system of records, “Criminal Investigation Audit Trail Records System—Treasury /IRS 46.051,” is published in its entirety below.

Dated: March 7, 2000.
Shelia Y. McCann,
Deputy Assistant Secretary (Administration).

Treasury /IRS 46.051

System Name:

Criminal Investigation Audit Trail Records System—Treasury /IRS 46.051

System Location:

Records are located at the Internal Revenue Service, 1111 Constitution Avenue, NW, Washington, DC 20224. Other locations of these records are: Automated Criminal Investigation Project Office, located in Florence, Kentucky; Internal Revenue Service Areas of Investigation, Criminal Investigation District Offices, and Internal Revenue Service Posts of Duty. (See IRS Appendix A for addresses.)

Categories of Individuals Covered by the System:

Individuals who use or attempt to use the IRS Criminal Investigation computer systems; log onto the Criminal Investigation system; use the Criminal Investigation applications; use the Criminal Investigation operating system, or log off the Criminal Investigation computer are covered by this system.

Categories of Records in The System:

This is an electronic data base which captures system use information such as: date and time a user initiated or attempted to initiate a session on the system; date and time of all unsuccessful system accesses; date and time of data or system file accesses; date and time of privileged security actions on the system, and date and time of system logoff by a user.

Criminal Investigation application audit trail records may contain information regarding system or application access for any of the following Criminal Investigation files: CIMIS, 46.002; Confidential Informants, Criminal Investigation Division, 46.003; Electronic Surveillance File, 46.005; and Centralized Evaluation and Processing of Information Items, 46.009.

Authority for Maintenance of the System:

5 U.S.C. 301; 26 U.S.C. 6103, 7213, 7213A, 7214, 7602, 7608, 7801, and 7803; 18 U.S.C. 1030(a)(2)(B).

Purpose:

The Criminal Investigation Division of the Internal Revenue Service established this system to enable the division to monitor and analyze usage of its computer system. The system will provide information showing: (1) The system users; (2) the times of use for each user; (3) the areas of the system being accessed by each user; (4) unauthorized access by Criminal Investigation employees; and (5) access, or attempted access, by persons other than Criminal Investigation employees. System uses include reading, adding, deleting, and/or modifying data and system records.

Routine Uses of Records Maintained in the System, Including Categories of Users and the Purposes of Such Use:

Disclosure of records and information from this system may be disclosed only as provided by 26 U.S.C. 6103 and 18 U.S.C. 1030(a)(2)(B). Records other than returns and return information may be used:

(1) To disclose pertinent information to appropriate federal, state, local, or foreign agencies responsible for investigating or prosecuting the violation or potential violation of civil or criminal law or regulations.

(2) To disclose information in a proceeding before a court, adjudicative body, or other administrative body before which the agency is authorized to appear when: (a) The agency, or (b) any employee of the agency in his or her official capacity, or (c) any employee of the agency in his or her individual capacity where the Department of Justice or the agency has agreed to represent the employee, or (d) the United States, when the agency determines that litigation is likely to affect the agency, is a party to litigation or has an interest in such litigation, and the use of such records by the agency is deemed to be relevant and necessary to the litigation or administrative proceeding and not otherwise privileged.

(3) To provide information to a congressional office in response to an inquiry made at the request of the individual to whom the record pertains.

(4) To provide information to third parties during the course of an investigation to the extent necessary to obtain information pertinent to the investigation.

(5) To provide information to unions recognized as exclusive bargaining representatives under the Civil Service Reform Act of 1978, 5 U.S.C. 7111 and 7114, the Merit Systems Protection Board, arbitrators, the Federal Labor Relations Authority, and other parties responsible for the administration of federal labor actions or grievances or conducting administrative hearings or appeals or if needed in the performance of other authorized duties.

(6) To disclose to the Department of Justice for the purpose of litigating an action or seeking legal advice.

(7) To disclose to a defendant in a criminal prosecution, the Department of Justice, or a court of competent jurisdiction where required in criminal discovery or by the Due Process Clause of the Constitution.

Policies and Practices for Storing, Retrieving, Accessing, Retaining, and Disposing of Records in the System:

Storage:

Electronic and magnetic media and paper.

Retrievability:

Records are retrievable by user name.

Safeguards:

Protection and control of any sensitive but unclassified information or records are in accordance with Department of the Treasury Security Manual, TD P 71-10 and Internal Revenue Manual, IRM 2.1.10, Automated Information System Security, and Internal Revenue Manual, IRM 1(16)00, Physical Security Handbook, as well as internal CI Policy. The Criminal Investigation Audit Trail Records System is contained in an operating system, which has been rated as C2 compliant. All system access is controlled with the use of passwords and only Criminal Investigation personnel who have been assigned a “need-to-know” can access system data. The computers that operate the System are in secure space, housed in a Federal Building with 24-hour security.

Retention and Disposal:

Records are maintained, administered and disposed of in accordance with Internal Revenue Manual (IRM) 1.15; 1.15.1 Records Administration Handbook, 1.15.2 Records Disposition Handbook, 1.15.3 General Records Handbook, and 1.15.4 Files Management Handbook.

System Manager(s) and Address:

The official prescribing policies and practices is the Assistant Commissioner, Criminal Investigation, Internal Revenue Service, 1111 Constitution Avenue, NW, Washington, DC, 20224. The organization responsible for maintaining the system is Systems Development and Support, Criminal Investigation Representative.

Notification Procedure:

This system of records may not be accessed for purposes of determining if the system contains a record pertaining to a particular individual.

Record Access Procedures:

This system of records may not be accessed for purposes of inspection by an individual to determine if there exists a record pertaining to him or her, and/or to view the contents of the records.

Contesting Record Procedures:

26 U.S.C. 7852(e) prohibits Privacy Act amendment of tax records.

Record Source Categories:

This system of records contains investigatory material compiled for law enforcement purposes whose sources need not be reported.

Exemptions Claimed for the System:

This system is exempt from 5 U.S.C. 552a(c)(3), (c)(4), (d)(1), (d)(2), (d)(3), (d)(4), (e)(1), (e)(2), (e)(3), (e)(4)(G), (H), and (I), (e)(5), (e)(8), (f), and (g) of the Privacy Act pursuant to 5 U.S.C. 552a(j)(2), and (k)(2).

[FR Doc. 00-9870 Filed 4-19-00; 8:45 am]

BILLING CODE 4830-01-P